LIBRARY OF CONGRESS

Copyright Office

[Docket No. RM 97-5C]

Copyright Restoration of Works in Accordance With the Uruguay Round Agreements Act; Notification Pertaining to Notices of Intent To Enforce Restored Copyrights

AGENCY: Copyright Office, Library of Congress.

ACTION: Notification of request to retract prior filings of notices of intent to enforce restored copyrights.

SUMMARY: This notice gives public notice that the Copyright Office has received a notification of a request to retract the filing of certain notices of intent to enforce restored copyrights under the Uruguay Round Agreements Act.

EFFECTIVE DATE: December 3, 2001.

FOR FURTHER INFORMATION CONTACT: Charlotte Douglass, Principal Legal Advisor to the General Counsel, or Marilyn Kretsinger, Copyright GC/I&R, PO Box 70400, Southwest Station, Washington, DC 20024. Telephone: (202) 707-8380. Telefax: (202) 707-8366.

SUPPLEMENTARY INFORMATION: Under the Uruguay Round Agreements Act, the Copyright Office is charged with publishing in the Federal Register any notices of intent to enforce restored copyrights timely filed with the Office. Notices filed with the Office must be filed within 24 months after a work initially becomes eligible. See 17 U.S.C. 104A(d)(2)(A). At this time, only works the source country of which is a foreign member of the World Trade Organization or the Berne Convention are eligible for restoration. 17 U.S.C. 104A(h)(3). On or shortly after January 1, 1996, the effective date of the Uruguay Round Agreements Act, the great majority of these countries fulfilled the conditions for eligibility. For those reasons, the time for filing notices of intent from the overwhelming majority of countries has now expired. Thus, typically, the Office does not receive new NIEs that are timely.

The URAA also prescribes conditions under which NIEs may be corrected. In 1997, the Copyright Office adopted an interim regulation under which corrections of errors in Notices of Intent to Enforce restored copyright may be filed. 62 FR 55736 (1997). In accordance with that regulation, the Office has published in the Federal Register lists of certain Correction Notices which reflect information erroneously listed on or omitted from original NIEs. 37 CFR 201.34. Any timely filed original or correction NIEs are published within four months after receipt on the next scheduled publication date. 17 U.S.C. 104A(e)(1)(B).

The Office now publishes a list of NIEs that is neither of original nor Correction NIEs but a judicially required statement which is the result of an action related to ownership of certain restored copyrights. The Office publishes this notice consistent with the intent of the URAA that makes the Copyright Office responsible for providing public notice of significant facts regarding, inter alia, the ownership of restored copyrights.

In a letter dated August 30, 2001, responding to an Amended Final Judgment in Alameda Films, S.A. v. H. Jackson Shirley III, No. H-99-0734, slip op. at 4 (S.D. Tex. Aug. 1, 2001), Mr. Shirley notified the U.S. Copyright Office that the Authors Rights Restoration Corporation retracts all filings in the U.S. Copyright Office in any way related to the eighty-one films listed in Exhibit “A” of the district court's order. This case has been appealed to the fifth circuit, No. 01-20869, docketed August 24, 2001.

The titles from Exhibit A are as follows:

U.S. copyright owner | Film title | Translated title
Alameda Films, S.A | El Baron del Terror | The Baron of Terror.
Alameda Films, S.A | El Grito de la Muerte | Cry of Death.
Alameda Films, S.A | El Hombre y El Monstruo | The Man and the Monster.
Alameda Films, S.A | La Cabeza Viviente | The Living Head.
Cima Films, S.A. de C.V | Dios Los Cria | Made By God.
Cima Films, S.A. de C.V | Juan Armenta el Repatriado | Juan Armenta the Repatriated.
Cima Films, S.A. de C.V | La Ley del Monte | The Law of the Mountain.
Cima Films, S.A. de C.V | La Valentina | The Valentina.
Cinematografica Filmex, S.A. de C.V | Tacos Al Carbon | Tacos Al Carbon.
Cinematografica Filmex, S.A. de C.V | Diamantes, Oro y Amor | Diamonds, Gold and Love.
Cinematografica Jalisco, S.A. de C.V | El Desconocido | The Unknown.
Cinematografica Sol, S.A. de C.V | Carceria Humana | Human Hunter.
Cinematografica Sol, S.A. de C.V | En Peligro de Muerte | In Danger of Dying.
Cinematografica Sol, S.A. de C.V | El Ansia de Matar | The Longing of Kill. The Longing of Death. Eager to Kill.
Cinematografica Sol, S.A. de C.V | El Hombre Violento | The Violent Man.
Cineproducciones Internacionales, S.A. de C.V | El Trinquetero | The Cheater.
Cineproducciones Internacionales, S.A. de C.V | El Sargento Perez | The Sargent Perez.
Cineproducciones Internacionales, S.A. de C.V | El Arte de Enganar | The Art of Fooling.
Cineproducciones Internacionales, S.A. de C.V | El Deseo En Otono | The Autumn Desire.
Cinevision, S.A. de C.V | La Gatita | The Pussy Cat.
Cumbre Films, S.A. de C.V | Acorralado | Corralled.
Cinematografica Sol, S.A. de C.V | El Hombre Violento | The Violent Man.
Cineproducciones Internacionales, S.A. de C.V | El Trinquetero | The Cheater.
Cineproducciones Internacionales, S.A. de C.V | El Sargento Perez | The Sargent Perez.
Cineproducciones Internacionales, S.A. de C.V | El Arte de Enganar | The Art of Fooling.
Cineproducciones Internacionales, S.A. de C.V | El Deseo En Otono | The Autumn Desire.
Cinevision, S.A. de C.V | La Gatita | The Pussy Cat.
Cumbre Films, S.A. de C.V | Acorralado | Corralled.
Cumbre Films, S.A. de C.V | El Cuatrero | The Cattle Thief.
Cumbre Films, S.A. de C.V | El Diablo El Santo, y El Tonto | The Devil, the Saint, and the Idiot.
Cumbre Films, S.A. de C.V | El Embustero | The Lying.
Cumbre Films, S.A. de C.V | El Macho | The Macho Man.
Cumbre Films, S.A. de C.V | Entre Compadres Tu Veas | Seen Between Godfathers.
Cumbre Films, S.A. de C.V | Por Tu Maldito Amor | For Your Dammed Love.
Cumbre Films, S.A. de C.V | Sinverguenza Pero Honrado | Brazen But Honest.
Cumbre Films, S.A. de C.V | Mi Querido Viejo | My Dear Old Man.
Cumbre Films, S.A. de C.V | Matar O Morir | To Kill Or To Die.
Cumbre Films, S.A. de C.V | El Sinverguenza | The Scoundrel.
Diana Films Internacionales, S.A. de C.V | Cartas Marcadas | Marked Cards.
Diana Films Internacionales, S.A. de C.V | Duro Pero Seguro | Hard But Sure.
Diana Films Internacionales, S.A. de C.V | La Presidenta Municipal | The Town President.
Filmadora Mexicana, S.A. de C.V | Medianoche | Middle Night.
Filmadora Mexicana, S.A. de C.V | La Esquina de Mi Barrio | My Neighborhood Corner.
Filmadora Mexicana, S.A. de C.V | Duena y Senora | Owner and Lady.
Filmadora Mexicana, S.A. de C.V | La Casa Chica | The Other House.
Gazcon Films, S.A. de C.V | Dos de Abajo | Two From Below.
Gazcon Films, S.A. de C.V | Perro Callerjero I | Wild Dog I.
Grupo Galindo, S.A. de C.V | El Rey de Los Albures | The King of Double Meaning.
Grupo Galindo, S.A. de C.V | Amaneci en Tus Brazos | I Woke Up In Your Arms.
Grupo Galindo, S.A. de C.V | Carabina 30-30 | 30-30 Carbine.
F. Mier, S.A | Vivo O Muerto | Dead Or Alive.
F. Mier, S.A | La Hermana Blanca | The White Sister.
F. Mier, S.A | El Nino Perdido | The Lost Boy.
Oro Films, S.A. de C.V | El Martir de Calvario | The Martyr Of The Calvary.
Oro Films, S.A. de C.V | El Hombre Sin Rostro | The Man Without A Face.
Oro Films, S.A. de C.V | El Aviso y Inoportuno | The Unexpected Announcement.
Oro Films, S.A. de C.V | Vivillo Desde Chiquillo | Smart Since Childhood.
Oro Films, S.A. de C.V | Casa De Vecindad | House Of The Neighborhood.
Peliculas y Videos Internacionale, S.A. de C.V | Ay Amor Como Me Has Puesto | Oh Love, What Has Become Of Me.
Peliculas y Videos Internacionale, S.A. de C.V | El Cielo y la Tierra | The Sky and the Earth.
Peliculas y Videos Internacionale, S.A. de C.V | El Tesoro del Rey Salomon | The Treasure Of King Solomon.
Peliculas y Videos Internacionale, S.A. de C.V | Esposa O Amante | Wife Or Lover.
Peliculas y Videos Internacionale, S.A. de C.V | Lagrimas de Amor | Tears Of Love.
Procinema, S.A. de C.V | Un Par a Todo Dar | A Great Pair.
Producciones Galubi, S.A. de C.V | El Bronco | The Bronco.
Producciones Galubi, S.A. de C.V | La Golfa Del Barrio | The Woman.
Producciones Galubi, S.A. de C.V | El Hijo del Palenque | Palenque's Son.
Producciones Galubi, S.A. de C.V | Santos vs. Los Asesinos De Ortros Mundos | Santo Versus the Assassins from Other Worlds.
Producciones Galubi, S.A. de C.V | El Agente Viajero | The Traveling Agent.
Producciones Matouk, S.A. de C.V | Las Aventuras de Juliancito | The Adventures of Juliancito.
Producciones Matouk, S.A. de C.V | Chico Ramos | Young Ramos.
Producciones Matouk, S.A. de C.V | Primera Comunion | First Communion.
Producciones Rosas Priego, S.A. de C.V | Quinceanera | She's Fifteen.
Producciones Rosas Priego, S.A. de C.V | Azahares Rojos | Red Blossom.
Producciones Rosas Priego, S.A. de C.V | Cricifijo de Piedra | The Stone Cross.
Producciones Rosas Priego, S.A. de C.V | El Aguila Negra | The Black Eagle.
Producciones Torrente, S.A. de C.V | Narcoterror | Narcoterror.
Producciones Torrente, S.A. de C.V | Pandilla de Criminales | Gang Of Criminals.
Producciones Torrente, S.A. de C.V | Ladrones de Tumbas | Thieves Of The Tombs.
Producciones Virgo, S.A. de C.V | Andante | Walker.
Producciones Virgo, S.A. de C.V | El Sexo Sentido | The Sex Sense.
Producciones Virgo, S.A. de C.V | No Hay Cruces en el Mar | There Are No Crosses In The Sea.
Producciones Virgo, S.A. de C.V | El Sexo Me da Risa | Sex Makes Me Laugh.
Secine, S.A. de C.V | El Gallo de Oro | The Golden Rooster.
Video Universal, S.A. de C.V | Thaimi, La Hija del Pescador | Thaima, Daughter of the Fisherman.
Video Universal, S.A.′ de C.V | La Tortola del Ajusco | The Turtledove Of Ajusco.
Video Universal, S.A. de C.V | El Fantastico Mundo de los Hippies | The Fantastic World of the Hippies.
Video Universal, S.A. de C.V | El Reino de los Gangsters | Reign of the Gangsters.

Dated: November 28, 2001.
Marilyn J. Kretsinger,
Assistant General Counsel.

[FR Doc. 01-29900 Filed 11-30-01; 8:45 am]

BILLING CODE 1410-30-P